DEPARTMENT OF ENERGY

Federal Energy Regulatory Commission

[Project No. 12715-003]

Fairlawn Hydroelectric Company, LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Original Major License.

b. Project No.: 12715-003.

c. Date filed: December 23, 2010.

d. Applicant: Fairlawn Hydroelectric Company, LLC.

e. Name of Project: Jennings Randolph Hydroelectric Project.

f. Location: The proposed project would be located at the U.S. Army Corps of Engineers' (Corps) Jennings Randolph dam located on the North Branch Potomac River in Garrett County, Maryland and Mineral County, West Virginia. The project would occupy 5.0 acres of federal land managed by the Corps.

g. Filed Pursuant to: Federal Power Act, 16 U.S.C. 791 (a)-825(r).

h. Applicant Contact: Clifford Phillips, Fairlawn Hydroelectric Company, LLC, 150 North Miller Road, Suite 450 C, Fairlawn, OH 44333; Telephone (330) 869-8451.

i. FERC Contact: Allyson Conner, (202) 502-6082 or allyson.conner@ferc.gov.

j. Deadline for filing motions to intervene and protests, comments, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Project Description: The proposed Jennings Randolph Project would use the existing U.S. Army Corps of Engineers' Jennings Randolph dam and reservoir and consist of the following proposed features: (1) A 10-foot-diameter, 530-foot-long underwater multi-level intake structure with 24 intake ports to be built on the upstream face of the dam; (2) a 10-foot-diameter, 1,400-foot-long lined tunnel through the dam; (3) a 10-foot-diameter, 1,100-foot-long penstock; (4) the penstock would bifurcate into 96-inch-diameter and 66-inch-diameter penstocks at the entrance to the powerhouse; (5) a powerhouse approximately 54 feet long, 54 feet wide, and 40 feet high that would contain two generating units with a total capacity of 14.0 megawatts; (6) a 40-foot-long tailrace; (7) a 0.74-mile-long, 25-kilovolt partially buried transmission line; (8) a substation; and (9) new compacted gravel access roads to be constructed to the powerhouse and along the transmission line to the project's substation. The proposed project would have an estimated average annual generation of 56,000 megawatt-hours and would discharge approximately 650 feet downstream of the Corps' existing discharge.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests of other comments filed, but only those who file a motion to intervene in accordance with the Commission's Rules may become a party to the proceeding. Any comments, protests, or motions to intervene must be received on or before the specified comment date for the particular application.

All filings must (1) Bear in all capital letters the title “PROTEST,” “MOTION TO INTERVENE,” “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, preliminary terms and conditions, and preliminary fishway prescriptions | May 31, 2011.
Commission issues Single EA | September 28, 2011.
Comments on EA | October 28, 2011.
Modified terms and conditions | December 27, 2011.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

r. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Dated: April 1, 2011.
Kimberly D. Bose,
Secretary.

[FR Doc. 2011-8302 Filed 4-6-11; 8:45 am]

BILLING CODE 6717-01-P